DEPARTMENT OF AGRICULTURE

Forest Service

Information Collection; Application for the Senior Community Service Employment Program

AGENCY: Forest Service, USDA.

ACTION: Notice; Request for comments.

SUMMARY: In accordance with the Paperwork Reduction Act of 1995, the U.S. Department of Agriculture, Forest Service is seeking comments from all interested individuals and organizations on the extension of a currently approved information collection for application to the Senior Community Service Program. The Forest Service surveys senior applicants for enrollment into the Senior Community Service Employment Program (SCSEP). Questions asked are personal information such as: Name, age, income residency, gender, education, ethnic group, English speaking ability, veteran, and disability status. This information is used to qualify individuals for enrollment into the SCSEP and assist with subsidized placement for the agency's special use program. The collected information will help the Forest Service determine eligibility for enrollment in the Senior Community Service Employment Program. Information will be collected from prospective applicants and enrollees age 55 years or older.

DATES: Comments must be received in writing on or before October 14, 2003.

ADDRESSES: All comments should be addressed to Director, Senior, Youth, & Volunteer Programs Staff, (MAIL STOP 1136), Forest Service, USDA, 1400 Independence Avenue, SW., Washington, DC 20090-1136. Comments also may be submitted via facsimile to (703) 605-5115 or by e-mail to: syvp/wo@fs.fed.us. The public may inspect comments received at 1621 N. Kent Street, Room 1010, Rosslyn, VA 22209. Visitors are encouraged to call ahead to (703) 605-4853.

FOR FURTHER INFORMATION CONTACT: Priscella McCray, Senior, Youth, & Volunteer Programs Staff, at (703) 605-4853.

SUPPLEMENTARY INFORMATION:

Background

The Senior Community Service Employment Program (SCSEP) is designed to provide part-time employment opportunities and training to low-income and disadvantaged persons age 55 or above. To establish the eligibility of each individual for enrollment into the program, it is necessary to collect income information and age data. The application document is the tool needed to collect this pertinent data and other relevant information required by the Department of Labor. The Department of Labor is the grantor for the SCSEP and provides guidelines for the program's operation. The authority for data collection is contained in the Federal Register Rules and Regulations, section 641.100, prepared by the Department of Labor, Employment and Training Administration. The application is used by Forest Service Staffs to collect information required to determine eligibility for enrollment in the SCSEP. Information attesting that the applicant meets the current income guidelines and age requirements to participate and benefit from the SCSEP, is documented on the application, signed by the applicant, and the Forest Service staff. The application also becomes a part of the participant's official personnel folder and is maintained with other personnel documents related to the employment and work history of the individual.

Description of Information Collection

The following describes the information collection to be extended:

Title: Application for the Senior Community Service Employment Program.

OMB Number: 0596-0099.

Expiration Date of Approval: December 31, 2003.

Type of Request: Extension of a previously approved information collection.

Abstract: Sections I and II are completed by the applicant or a Forest Service official on behalf of the applicant, to determine eligibility for the program or continued participation in the program. The remaining sections, III, IV, and V are completed by a Forest Service official with responsibility for determining eligibility for participation in the program. The statistical data in these sections are collected and used for a Quarterly Progress Report (QPR) prepared by the Forest Service and transmitted to the Department of Labor. The QPR is a requirement of the current program regulations. The data collected from the Forest Service is used by the Department of Labor to prepare a composite activity report highlighting the program's accomplishments and demographic efforts over the program year and is transmitted annually to Congress.

Data gathered in this information collection are not available from other sources.

Estimate of Annual Burden: 12 minutes.

Type of Respondents: Economically disadvantaged individuals, including legal aliens, age 55 or older.

Estimated Annual Number of Respondents: 6,500.

Estimated Annual Number of Responses per Respondent: 1.

Estimated Total Annual Burden on Respondents: 1,300 hours.

Request for Comments

The agency invites comments on the following: (a) The necessity of the proposed information collection for the proper performance of agency functions, including the practical utility of the information; (b) the accuracy of the agency's estimate of the burden of the proposed collection of information, including the validity of the methodology and assumptions used; (c) the enhancements of the quality, utility, and clarity of the information to be collected; and (d) the minimization of the burden of collection of information on respondents, including the use of automated, electronic, mechanical, or other technological collection techniques or other forms of information technology.

Use of Comments

All comments received in response to this notice, including names and addresses when provided, will become a matter of public record. Comments will be summarized and included in the request for Office of Management and Budget approval.

Dated: July 30, 2003.
Irving W. Thomas,
Acting Deputy Chief, Business Operations.

[FR Doc. 03-20798 Filed 8-14-03; 8:45 am]

BILLING CODE 3410-11-P